DEPARTMENT OF ENERGY

Federal Energy Regulatory Commission

[Project No. 13797-000]

City of Ouray; Notice of Application Accepted for Filing, Ready for Environmental Analysis, and Soliciting Motions To Intervene and Protests, Comments, Final Terms and Conditions, Recommendations, and Prescriptions

January 11, 2011.

Take notice that the following hydroelectric application has been filed with the Commission and is available for public inspection.

a. Type of Filing: Original Minor License.

b. Project No.: 13797-000.

c. Dated Filed: June 6, 2010.

d. Submitted by: City of Ouray.

e. Name of Project: Ouray Water Supply Hydroelectric Project.

f. Project Description: The proposed project would use excess water from the City's artesian spring by way of an existing six-inch water line. The City would add about 300 feet of new pipeline to direct water to a new power plant. The power plant will house one Pelton turbine and induction motor generator with a maximum output of 20 kilowatt.

g. Location: Ouray, Colorado.

h. Filed Pursuant to: 18 CFR 4.61 of the Commission's regulations.

i. Applicant Contact: Bob Risch, P.O. Box 468, Ouray, CO 81427; (970) 318-1363.

j. FERC Contact: Mary Greene at (202) 502-8865; or e-mail at mary.greene@ferc.gov.

k. A copy of the license application is available for review at the Commission in the Public Reference Room or may be viewed on the Commission's Web site (http://www.ferc.gov), using the “eLibrary” link. Enter the docket number, excluding the last three digits in the docket number field to access the document (P-13797). For assistance, contact FERC Online Support at FERCONlineSupport@ferc.gov or toll free at 1-866-208-3676, or for TTY, (202) 502-8659. A copy is also available for inspection and reproduction at the address in paragraph h.

Register online at http://www.ferc.gov/docs-filing/esubscription.asp to be notified via e-mail of new filing and issuances related to this or other pending projects. For assistance, contact FERC Online Support.

l. This application has been accepted for filing and is now ready for environmental analysis.

m. Cooperating agencies: Federal, State, local, and Tribal agencies with jurisdiction and/or special expertise with respect to environmental issues that wish to cooperate in the preparation of the environmental document should file such request within 30 days from issuance of this notice.

Cooperating agencies should note the Commission's policy that agencies that cooperate in the preparation of the environmental document cannot also intervene. See 94 FERC ¶ 61,076 (2001). All documents may be filed electronically via the Internet. See 18 CFR 385.2001(a)(1)(iii) and the instructions on the Commission's Web site (http://www.ferc.gov/docs-filing/ferconline.asp) under the “e-Filing” link. For a simpler method of submitting text only comments click on “Quick Comment”. For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

n. We notice that we intend to waive scoping and shorten the filing and comment date on final terms and conditions, recommendations, and prescriptions. Based on a review of the application, resource agency consultation letters, and comments filed to date, Commission staff intends to prepare a single environmental assessment (EA). Commission staff determined that the issues that need to be addressed in its EA have been adequately identified during the pre-consultation period for the application and no new issues are likely to be identified through additional scoping.

o. Deadline for filing motions to intervene and protests, comments, and final terms and conditions, recommendations, and prescriptions: 30 days from the issuance of this notice. All reply comments must be filed with the Commission within 45 days from the date of this notice.

p. Procedural Schedule: The application will be processed according to the following Hydro Licensing Schedule. Revisions to the schedule will be made as appropriate.

Milestone | Target date
Recommendations, preliminary terms & conditions due | February 10, 2011.
Commission issues EA | March 9, 2011.

Kimberly D. Bose,
Secretary.

[FR Doc. 2011-915 Filed 1-14-11; 8:45 am]

BILLING CODE 6717-01-P